DEPARTMENT OF ENERGY

Energy Information Administration

Proposed Agency Information Collection

AGENCY: U.S. Energy Information Administration (EIA), Department of Energy (DOE).

ACTION: Agency information collection activities: Proposed information collection; notice and request for comments.

SUMMARY: The EIA invites public comment on a proposed collection of information that EIA is developing for submission to the Office of Management and Budget (OMB) pursuant to the Paperwork Reduction Act of 1995. The EIA is soliciting comments on the proposed reinstatement of the Forms EIA-457A, C, D, E, F, and G, “2015 Residential Energy Consumption Survey.” Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before March 3, 2015. If you anticipate difficulty in submitting comments within that period, contact the person listed in ADDRESSES below as soon as possible.

ADDRESSES: Send comments to James “Chip” Berry. To ensure receipt of the comments by the due date, submission by email is recommended (james.berry@eia.gov). Comments may also be submitted by mail to James Berry, Survey Manager, EI-22, Forrestal Building, U.S. Department of Energy, Washington, DC 20585. Alternatively, Mr. Berry may be contacted by telephone at (202) 586-5543.

FOR FURTHER INFORMATION CONTACT: Requests for additional information or copies of the forms and instructions should be directed to Mr. Berry at the contact information given above. To view the forms online please go to: http://www.eia.gov/survey/#eia-457.

SUPPLEMENTARY INFORMATION: The Federal Energy Administration Act of 1974 (Pub. L. 93-275, 15 U.S.C. 761 et seq.) and the DOE Organization Act (Pub. L. 95-91, 42 U.S.C. 7101 et seq.) requires EIA to carry out a centralized, comprehensive, and unified energy information program. This program collects, evaluates, assembles, analyzes, and disseminates information on energy resource reserves, production, demand, technology, and related economic and statistical information. This information is used to assess the adequacy of energy resources to meet near and longer-term domestic demands.

EIA, as part of its effort to comply with the Paperwork Reduction Act of 1995 (Pub. L. 104-13, 44 U.S.C. 35), provides the general public and other Federal agencies with opportunities to comment on collections of energy information conducted by or in conjunction with EIA. Any comments received help EIA to prepare data requests that maximize the utility of the information collected, and to assess the impact of collection requirements on the public. Also, EIA will later seek approval by the Office of Management and Budget (OMB) under section 3507(a) of the Paperwork Reduction Act of 1995.

The Residential Energy Consumption Survey (RECS) is a periodic series of surveys of households and their energy suppliers with the purpose of collecting and reporting energy characteristics, consumption, and expenditures data of homes in the United States. The data are widely used throughout the government and the private sector for policy analysis and are made available to the public via data tables, public-use data files, and analysis articles. The most recent survey, the 2009 RECS, was the 13th iteration of the program. Data, reports, survey forms, and documentation from the 2009 RECS are available at EIA's Residential Consumption homepage at http://www.eia.gov/consumption/residential/. Results and documentation from earlier surveys are also available at this Web site. Please refer to the survey Web site for more detailed information about the purpose of the RECS and discussions of survey and data collection methodologies.

EIA administers the RECS to a nationally representative sample of households. A follow-on survey of rental agents (e.g. apartment managers or landlords) is also conducted to collect more accurate structural and equipment information for household respondents living in apartments. Specially trained interviewers collect energy characteristics on the housing unit, usage patterns, and household demographics. The household and rental agent data collections are conducted on a voluntary basis and in-person with each respondent. This information is combined with data from energy suppliers to these homes to estimate energy costs and usage for heating, cooling, appliances and other end uses. The energy supplier surveys are collected primarily via a secure Web site and response is mandatory. Similar designs and methods are planned for the next iteration of the RECS, the 2015 RECS.

This information collection contains:

(1) OMB No.: 1905-0092.

(2) Information Collection Request Title: EIA-457A C, D, E, F, G, “Residential Energy Consumption Survey”.

(3) Type of Request: Reinstatement with change of a previously approved collection for which approval has discontinued.

(4) Purpose: Need for and proposed use of the information: The RECS is used to collect data on energy characteristics, consumption, and expenditures of U.S. homes. These data collections fulfill planning, analyses and decision-making needs of DOE, other Federal agencies, State governments, and the private sector. Respondents are householders of selected housing units and their energy suppliers. Response obligations are Voluntary (households) and Mandatory (energy suppliers).

This will be a proposed reinstatement of a previously approved collection and three-year clearance request to OMB. The content of the 2015 RECS will be largely unchanged from the 2009 RECS. Sampling will incorporate key definitions and elements from previous RECS. Housing units will be selected via a multi-stage area probability sample design and will be statistically representative of U.S. occupied housing units, as well as selected sub-national geographies.

The EIA proposes the following changes to the RECS:

a. The sample size for the 2015 RECS will be smaller than the 2009 RECS. The sample size and publishable results for the 2015 RECS will be comparable to the 2001 and 2005 surveys.

b. The content of the household questionnaire will remain relatively unchanged from the 2009 RECS. Detailed information about the following characteristics of the home and data items that support the energy supplier collection will continue to be collected:

• Structural characteristics, including square footage

• Appliances

• Entertainment devices and miscellaneous electric loads

• Primary and secondary heating

• Cooling

• Water heating

• Household demographics

• Energy supplier and payment information

Minor updates will be made to items in these areas in the interest of respondent clarity or to adjust to changes in technology. For example, EIA will collect information about tablet usage, revise refrigerator size categories to align with current stock, collect information on the use of wood pellets, and capture the penetration of ground-source heat pumps. Some items are also planned for removal, including residential transportation items.

c. The scope of the supplemental RECS form EIA 457-C, “Rental Agent Survey” will be expanded to include all responding households living in apartments. In previous RECS only those responding households who paid some or all of their energy bills through rent or condo fees were selected for the follow-on Rental Agent Survey. Analysis of the 2009 RECS indicates that the data quality for all apartment unit respondents would be significantly improved by asking critical questions of associated apartment rental agents (e.g. leasing agents, property managers, or landlords.)

(5) Annual Estimated Number of Respondents: 1,933.

a. Household Survey: 1,500.

b. Rental Agent Survey: 183.

c. Energy Supplier Surveys: 250.

(6) Annual Estimated Number of Total Responses: 4,334.

a. Household Survey: 1,500.

b. Rental Agent Survey: 367.

c. Energy Supplier Surveys: 2,467.

(7) Annual Estimated Number of Burden Hours: 1,959.

a. Household Survey: 1,250.

b. Rental Agent Survey: 92.

c. Energy Supplier Surveys: 617.

(8) Annual Estimated Reporting and Recordkeeping Cost Burden: EIA estimates that there are no capital and start-up costs associated with this data collection. The information is maintained in the normal course of business. For household respondents no additional record keeping or other burden is required outside the interview process. The cost of burden hours to all household, rental agent, and energy supplier respondents is estimated to be $135,817 (1,959 annual burden hours times $69.33 per hour.) Therefore, other than the cost of burden hours, EIA estimates that there are no additional costs for generating, maintaining and providing the information.

Statutory Authority: Section 13(b) of the Federal Energy Administration Act of 1974, Pub. L. 93-275, codified at 15 U.S.C. 772(b).

Issued in Washington, DC, December 24, 2014.
Lawrence Stroud,
Acting Director, Office of Survey Development and Statistical Integration, U.S. Energy Information Administration.

[FR Doc. 2014-30744 Filed 12-31-14; 8:45 am]

BILLING CODE 6450-01-P